DEPARTMENT OF DEFENSE

Office of the Secretary

Submission for OMB Review; Comment Request

ACTION: Notice.

The Department of Defense will submit to OMB for emergency processing, the following proposal for collection of information under the provisions of the Paperwork Reduction Act (44 U.S.C. Chapter 35).

DATES: Consideration will be given to all comments received by April 12, 2004.

Title and OMB Number: Viability of TRICARE Standard Survey; OMB Number 0720- [To Be Determined].

Type of Request: New Collection; Emergency processing requested with a shortened public comment period of five days. An approval date by April 9, 2004, has been requested.

Number of Respondents: 9,360.

Responses Per Respondent: 1.

Annual Responses: 9,360.

Average Burden Per Response: 15 minutes.

Annual Burden Hours: 2,340.

Needs and Uses: The Health Program Analysis and Evaluation Directorate (HPAE) under authority of the Office of the Assistant Secretary of Defense (Health Affairs)/TRICARE Management Activity will undertake an evaluation of the Department of Defense's TRICARE Standard healthcare option. HPAE will collect and analyze data that are necessary to meet the requirements outlined in Section 723 of the National Defense Authorization Act for Fiscal Year 2004. Activities include the collection and analysis of data obtained from civilian physicians (MD.s & D.O.s) within U.S. TRICARE market areas. Specifically, telephone surveys of civilian providers will be conducted in the TRICARE market areas to determine how many healthcare providers are accepting new patients under TRICARE Standard in each market area. The telephone surveys will be conducted in at least 20 TRICARE market areas in the United States each fiscal year until all market areas in the United States have been surveyed. In prioritizing the order in which these market areas will be surveyed, representatives of TRICARE beneficiaries will be consulted in identifying locations with historical evidence of access-to-care problems under TRICARE Standard. These areas will receive priority in surveying. Information will be collected telephonically to determine the number of healthcare providers that currently accept TRICARE Standard beneficiaries as patients under TRICARE Standard in each market area. Providers will also be asked if they would accept TRICARE Standard beneficiaries as new patients under TRICARE Standard. Analyses and reports will include all legislative requirements.

Affected Public: Individuals or Households.

Frequency: Semi-Annually.

Respondent's Obligation: Voluntary.

OMB Desk Officer: Mr. John Kraemer.

Written comments and recommendations on the proposed information collection should be sent to Mr. Kraemer at the Office of Management and Budget, Desk Officer for DoD Health Affairs, Room 10236, New Executive Office Building, Washington, DC 20503. Written comments and recommendations can be sent directly to the program office to Michael Hartzell, Lieutenant Colonel, USAF, BSC, Health Program Analysis and Evaluation/TMA, 5111 Leesburg Pike, Suite 810, Falls Church, VA 22041-3206.

DoD Clearance Officer: Mr. Robert Cushing.

Written requests for copies of the information collection proposal should be sent to Mr. Cushing, WHS/ESCD/Information Management Division, 1225 Jefferson Davis Highway, Suite 504, Arlington, VA 22202-4326; or by Fax at (703) 604-1514.

Dated: March 30, 2004.
Patricia L. Toppings,
Alternate OSD Federal Register Liaison Officer, Department of Defense.

[FR Doc. 04-7667 Filed 4-05-04; 8:45 am]

BILLING CODE 5001-06-M